ENVIRONMENTAL PROTECTION AGENCY

[FRL-9223-9]

Science Advisory Board Staff Office; Notification of a Public Teleconference of the Advisory Council on Clean Air Compliance Analysis (Council)

AGENCY: Environmental Protection Agency (EPA).

ACTION: Notice.

SUMMARY: The EPA Science Advisory Board (SAB) Staff Office announces a public teleconference of the Advisory Council on Clean Air Compliance Analysis (Council). The Council will discuss and finalize its draft advisory document on the EPA Office of Air and Radiation's Second Section 812 Prospective Analysis of the benefits and costs of the Clean Air Act.

DATES: The teleconference will be held on Monday, November 22, 2010 from 11 a.m. to 1 p.m. (Eastern Time).

ADDRESSES: The teleconference will be held by telephone only.

FOR FURTHER INFORMATION CONTACT: Members of the public who wish to obtain further information about this meeting may contact Ms. Stephanie Sanzone, Designated Federal Officer (DFO), EPA Science Advisory Board Staff Office (1400R), U.S. Environmental Protection Agency, 1200 Pennsylvania Avenue, NW., Washington, DC 20460; by telephone/voice mail: (202) 564-2067 or e-mail at sanzone.stephanie@epa.gov. General information about the Council may be found on the Council Web site at http://www.epa.gov/advisorycouncilcaa.

SUPPLEMENTARY INFORMATION: Background: Pursuant to the Federal Advisory Committee Act (FACA), 5 U.S.C., App. 2, notice is hereby given that the Advisory Council on Clean Air Compliance Analysis (Council) will hold a public meeting to discuss and approve its draft report (dated October 4, 2010) entitled, Review of the Second Section 812 Prospective Study of the Benefits and Costs of the Clean Air Act. The Council was established in 1991 pursuant to the Clean Air Act (CAA) Amendments of 1990 (see 42 U.S.C. 7612) to provide advice, information and recommendations on technical and economic aspects of analyses and reports EPA prepares on the impacts of the CAA on the public health, economy, and environment of the United States. The Council is a Federal Advisory Committee chartered under FACA, and complies with the provisions of FACA and all appropriate SAB Staff Office procedural policies.

Pursuant to Section 812 of the 1990 Clean Air Act Amendments (CAAA), EPA conducts periodic studies to assess benefits and costs of the EPA's regulatory actions under the Clean Air Act. The Council has provided advice on an EPA retrospective study published in 1997 and an EPA prospective study completed in 1999. EPA's Office of Air and Radiation (OAR) requested the Council's review of a second prospective study to evaluate the benefits and costs of EPA Clean Air programs for years 1990-2020, including a draft synthesis report and a draft summary document.

Previous Reviews: The Council and its subcommittees have previously reviewed EPA documents prepared in support of the Office of Air and Radiation's Second Section 812 Prospective Study, and the advisory reports from these activities are available on the Council Web site at (http://www.epa.gov/advisorycouncilcaa). As announced previously (Federal Register, Vol 75, Number 153, Page 48327), the Council met on September 2-3, 2010 to review a final draft of the Agency document, Second Section 812 Prospective Study of the Benefits and Costs of the Clean Air Act and a draft Summary Report. As a result of discussions and deliberation at the September meeting, the Council has developed a draft advisory report (dated October 4, 2010) to convey its comments and advice to the Agency on the draft EPA documents. The purpose of the November 22, 2010 teleconference is for the Council to discuss and finalize its report to the Agency on the Second Prospective Study. Background information on this advisory activity is available on the Council Web site at http://yosemite.epa.gov/sab/sabproduct.nsf/fedrgstr_activites/2nd%20Prospective%20812%20Study?OpenDocument.

Technical Contacts: The Office of Air and Radiation technical contact for the Second Section 812 Benefit-Cost Analysis of the Clean Air Act is Mr. Jim DeMocker at (202) 564-1673 or democker.jim@epa.gov.

Availability of Meeting Materials: Draft EPA documents provided to the Council are available at http://www.epa.gov/oar/sect812/prospective2.html and on the Council Web Site. The meeting agenda for the November 22, 2010 teleconference and the draft Council report (dated October 4, 2010) will be posted on the Council Web site at (http://www.epa.gov/advisorycouncilcaa) prior to the meeting.

Procedures for Providing Public Input: Public comment for consideration by EPA's Federal advisory committees and panels has a different purpose from public comment provided to EPA program offices. Therefore, the process for submitting comments to a Federal advisory committee is different from the process used to submit comments to an EPA program office. Federal advisory committees and panels, including scientific advisory committees, provide independent advice to EPA. Members of the public can submit comments for a Federal advisory committee to consider as it develops advice for EPA. Interested members of the public may submit relevant written or oral information for the SAB to consider on the topics included in this advisory activity.

Oral Statements: In general, individuals or groups requesting an oral presentation at a public teleconference will be limited to three minutes per speaker, with no more than a total of one-half hour for all speakers. Each person making an oral statement should consider providing written comments so that the points presented orally can be expanded upon in writing. Interested individuals should contact Ms. Sanzone, DFO, in writing (preferably via e-mail) at the contact information noted above by November 17, 2010, to be placed on a list of public speakers for the November 22, 2010 teleconference. Written Statements: Written statements for the November 22, 2010 teleconference should be supplied to the DFO via e-mail at the contact information noted above, by November 17, 2010, so that the information may be made available to the SAB Committee members for their consideration and placed on the SAB Web site for public information. Written statements should be supplied to the DFO in the following formats: One hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Ms. Sanzone at (202) 564-2067, or via e-mail at sanzone.stephanie@epa.gov, preferably at least ten (10) days prior to the meeting, to give EPA as much time as possible to process your request.

Dated: November 2, 2010.
Anthony Maciorowski,
Deputy Director, EPA Science Advisory Board Staff Office.

[FR Doc. 2010-28265 Filed 11-8-10; 8:45 am]

BILLING CODE 6560-50-P